FEDERAL COMMUNICATIONS COMMISSION

Notice of Public Information Collection(s) Being Reviewed by the Federal Communications Commission, Comments Requested

October 22, 2010.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before January 3, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov.

FOR FURTHER INFORMATION CONTACT: For additional information, contact Judith B. Herman, OMD, 202-418-0214 or e-mail Judith-b.herman@fcc.gov.

SUPPLEMENTARY INFORMATION: OMB Control Number: 3060-0809.

Title: Communications Assistance for Law Enforcement Act (CALEA).

Form No.: N/A.

Type of Review: Revision of a currently approved collection.

Respondents: Business or other for-profit.

Number of Respondents and Responses: 200 respondents; 285 responses.

Estimated Time per Response: 12 hours average (range of 7.5 hours-80 hours).

Frequency of Response: On occasion reporting requirement and third party disclosure requirement.

Obligation To Respond: Mandatory. Statutory authority for this information collection is contained in sections 105, 107(c), 109(b) and 301 of the Communications Assistance for Law Enforcement Act (CALEA), 47 U.S.C. sections 1004, 1006(c), 1008(c), and 229.

Total Annual Burden: 3,475 hours.

Total Annual Cost: N/A.

Privacy Act Impact Assessment: N/A.

Nature and Extent of Confidentiality: Pursuant to section 0.457(g) of the Commission's rules, the information in the CALEA security system filings and petitions will not be made routinely available for public inspection.

Section 107(c) and section 109(c) filings are entitled to confidential treatment under the Freedom of Information Act (FOIA). The Commission has directed respondents to file their petitions under a general claim of confidentiality or proprietary protection, subject only to scrutiny by the Commission and the Attorney General who is consulted in section 107(c) adjudications and is a party to all section 109(c) adjudications.

Needs and Uses: The Commission will submit this revised collection to the Office of Management and Budget (OMB) after this comment period to obtain the full three-year approval from them. The Commission is revising this information collection to eliminate the recordkeeping burden estimated associated in 47 CFR 1.20004. This estimate has been eliminated by 1,655 hours because the nature and extent of the requirement is usual and customary. Telecommunications carriers must keep such records to demonstrate that they are in compliance with Federal and State wiretapping laws and regulations that have existed for the past 40 years.

The Communications Assistance for Law Enforcement Act (CALEA) requires the Commission to create rules that regulate the conduct and recordkeeping of lawful electronic surveillance. CALEA was enacted in October 1994 to respond to rapid advances in telecommunications technology and eliminates obstacles faced by law enforcement personnel in conducting electronic surveillance. Section 105 of CALEA requires telecommunications carriers to protect against the unlawful interception of communications passing through their systems. Law enforcement officials use the information maintained by telecommunications carriers to determine the accountability and accuracy of telecommunications carriers' compliance with lawful electronic surveillance orders.

On May 12, 2006, the Commission adopted and released a Second Report and Order and Memorandum Opinion and Order in ET Docket No. 04-195, FCC 06-56, which became effective August 4, 2006, except for sections 1.20004 and 1.20005 of the Commission's rules, which became effective on February 12, 2007. The Second Report and Order established new guidelines for filing section 107(c) petitions, section 109(b) petitions, and monitoring reports (formerly FCC Form 445). CALEA section 107(c)(1) permits a petitioner to apply for an extension of time, up to two years from the date that the petition is filed, and to come into compliance with a particular CALEA section 103 capability requirement. CALEA section 109(b) permits a telecommunications carrier covered by CALEA to file a petition with the FCC and an application with the Department of Justice (DoJ) to request that DoJ pay the costs of the carrier's CALEA compliance (cost-shifting relief) with respect to any equipment, facility or service installed or deployed after January 1, 1995. The Second Report and Order required several different collections of information:

(1) Within 90 days of the effective date of the Second Report and Order, facilities based broadband Internet access and interconnected Voice over Internet Protocol (VoIP) providers newly identified in the First Report and Order in this proceeding were required to file system security statements under the Commission's rules. (Security systems are currently approved under this information collection.)

(2) All telecommunications carriers, including broadband Internet access and interconnected VoIP providers, must file updates to their systems security statements on file with the Commission as their information changes.

(3) Petitions filed under Section 107(c), requires for additional time to comply with CALEA; these provisions apply to all carriers subject to CALEA and are voluntary filings.

(4) Section 109(b), request for reimbursement of CALEA; these provisions apply to all carriers subject to CALEA and are voluntary filings.

Federal Communications Commission.
Marlene H. Dortch,
Secretary.

[FR Doc. 2010-27581 Filed 11-1-10; 8:45 am]

BILLING CODE 6712-01-P